DEPARTMENT OF HOMELAND SECURITY

U.S. Customs and Border Protection

DEPARTMENT OF THE TREASURY

19 CFR Part 159

[USCBP-2010-0008;-CBP Dec. 11—17]

RIN 1515-AD67 (formerly RIN 1505-AC21)

Courtesy Notice of Liquidation; Correction

AGENCIES: U.S. Customs and Border Protection, Department of Homeland Security; Department of the Treasury.

ACTION: Final rule; correction.

SUMMARY: U.S. Customs and Border Protection (“CBP”) published in the Federal Register of August 17, 2011, a final rule concerning the discontinuation of electronic courtesy notices of liquidation to importers of record whose entry summaries are filed in the Automated Broker Interface (“ABI”). In the preamble of the final rule document, CBP made a misstatement in a comment response regarding the availability to an importer of an Importer Trade Activity (ITRAC) report—a historical report on all of an importer's importation activity over a set time period. CBP incorrectly stated that C-TPAT members may receive ITRAC reports for free. This document corrects the August 17, 2011 document to reflect that the Importer Self-Assessment (“ISA”) members, rather than C-TPAT members, receive free ITRAC reports.

DATES: This correction is effective August 24, 2011. The final rule is effective September 30, 2011. The implementation date will be the first day on or after September 30, 2011, that CBP can provide importers with complete liquidation reports, including liquidation dates, electronically through the ACE Portal. CBP will confirm the date of implementation through electronic notification (see CBP.gov).

FOR FURTHER INFORMATION CONTACT: Laurie Dempsey, Trade Policy and Programs, Office of International Trade, Customs and Border Protection, 202-863-6509.

SUPPLEMENTARY INFORMATION:

Correction

In the Federal Register issue of Wednesday, August 17, 2011, in FR Doc. 2011-20957, please make the following two corrections:

1. On page 50883, in the third column, please remove in the heading of the document “[USCBP-2010-0008; BP Dec. 11-17]” and add in its place “[USCBP-2010-0008; CBP Dec. 11-17]”;

2. On page 50886, in the second column, the last sentence of the second full paragraph, please remove the term “a C-TPAT member” and add in its place the term “an Importer Self-Assessment (“ISA”) member”.

Dated: August 19, 2011.
Joanne Roman Stump,
Acting Director, Regulations and Disclosure Law Division, U.S. Customs and Border Protection.
Heidi Cohen,
Senior Counsel for Regulatory Affairs, Office of the Assistant General Counsel for General Law, Ethics & Regulation, U.S. Department of the Treasury.

[FR Doc. 2011-21620 Filed 8-23-11; 8:45 am]

BILLING CODE 9111-14-P